DEPARTMENT OF HOUSING AND URBAN DEVELOPMENT

[Docket No. FR-5306-FA-01]

Announcement of Funding Awards for Fiscal Year 2008 for the Housing Choice Voucher Program

AGENCY: Office of the Assistant Secretary for Public and Indian Housing, HUD.

ACTION: Announcement of Fiscal Year (FY) 2008 awards.

SUMMARY: In accordance with Section 102(a)(4)(C) of the Department of Housing and Urban Development Reform Act of 1989, this document notifies the public of funding awards for Fiscal Year (FY) 2008 to housing agencies (HAs) under the Section 8 housing choice voucher program. The purpose of this notice is to publish the names, addresses, and the amount of the awards to HAs for non-competitive funding awards for housing conversion actions, public housing relocations and replacements, moderate rehabilitation replacements, and HOPE VI voucher awards.

FOR FURTHER INFORMATION CONTACT: Danielle Bastarache, Director, Office of Housing Voucher Programs, Office of Public and Indian Housing, Department of Housing and Urban Development, 451 Seventh Street, SW., Room 4228, Washington, DC 20410-5000, telephone (202) 402-0477. Hearing- or speech-impaired individuals may call HUD's TTY number at (800) 927-7589. (Only the “800” telephone number is toll-free.)

SUPPLEMENTARY INFORMATION: The regulations governing the housing choice voucher program are published at 24 CFR part 982. The regulations for allocating housing assistance budget authority under Section 213(d) of the Housing and Community Development Act of 1974 are published at 24 CFR part 791, subpart D.

The purpose of this rental assistance program is to assist eligible families to pay their rent for decent, safe, and sanitary housing. The FY2008 awardees announced in this notice were provided Section 8 funds on an as-needed, non-competitive basis, i.e., not pursuant to the provisions of a Notice of Funding Availability (NOFAs). Tenant protection voucher awards made to PHAs for program actions that displace families living in public housing were made on a first-come, first-served basis in accordance with PIH Notice 2007-10, Voucher Funding in Connection with the Demolition or Disposition of Occupied Public Housing Units. Announcements of awards provided under the NOFA process for mainstream housing and designated housing programs will be published in a separate Federal Register notice.

Awards published under this notice were provided (1) to assist families living in HUD-owned properties that are being sold; (2) to assist families affected by the expiration or termination of their project-based Section 8 and moderate rehabilitation contracts; (3) to assist families in properties where the owner has prepaid the HUD mortgage; (4) to provide relocation housing assistance in connection with the demolition of public housing; (5) to provide replacement housing assistance for single room occupancy (SRO) units that fail housing quality standards (HQS); and (6) to assist families in public housing developments that are scheduled for demolition in connection with a HUD-approved HOPE VI Revitalization or Demolition Grant. Limited administrative fees were added to each assignment for the administration of housing choice vouchers awarded under this notice. Awards made subsequent to the Consolidated Appropriations Act, 2008, are assigned administrative fees quarterly under a separate process. Special housing fees were included for applicable Housing tenant protection awards.

PHAs awarded housing choice vouchers in connection with a public housing demolition/disposition plan were authorized to use their available net restricted assets (NRA) to offset the required budget authority for units requested, if the PHA had a significant accumulation of unspent housing assistance payment funds available.

For NRA criteria, the Department determined that the amount of total January 1, 2008, NRA remaining after offsets exceeded 17% of CY 2008 eligibility for PHAs with 251 through 1000 units or 8.5% for PHAs with over 1000 units could be used to fund tenant protection actions. For PHAs with 250 or fewer units, HUD did not use NRA for tenant protection needs. PHAs that were awarded vouchers for public housing relocation or replacement and HOPE VI tenant protection, and whose budget authority is indicated with an asterisk, were awarded minimal funds for authority due to the use of NRA to fully or partially fund their tenant protection voucher needs.

The Department awarded total new budget authority of $146,833,794 for 19,605 housing choice vouchers to recipients under all of the above-mentioned categories. In addition, HUD authorized 18 PHAs to use a total of $15,560,146 in net restricted assets to offset awards made in FY 2008. The total cost of vouchers awarded is $162,393,940, which includes $2,932,211 that was provided from the HOPE VI account.

In accordance with Section 102(a)(4)(C) of the Department of Housing and Urban Development Reform Act of 1989 (103 Stat. 1987, 42 U.S.C. 3545), the Department is publishing the names, addresses, and amounts of those awards as shown in Appendix A alphabetically by State then by PHA name.

Dated: April 27, 2009.
Paula O. Blunt,
General Deputy Assistant, Secretary for Public and Indian Housing.

Section 8 Rental Assistance Programs Announcement of Awards for Fiscal Year 2008
Housing agency | Address | Units | Award
Public Housing Tenant Protection Mod Rehab Replacements
HA OF SELMA | P.O. BOX 950, SELMA, AL 36702 | 1 | $3,767
HA OF TUSCALOOSA | P.O. BOX 2281, TUSCALOOSA, AL 35403 | 19 | 82,329
HA OF BESSEMER | P.O. BOX 1390, BESSEMER, AL 35021 | 11 | 63,437
SAN FRANCISCO HA | 440 TURK ST, SAN FRANCISCO, CA 94102 | 1 | 5,198
COUNTY OF LOS ANGELES HA | 2 CORAL CIRCLE, MONTEREY PARK, CA | 56 | 552,263
CITY OF LOS ANGELES HA | 2600 WILSHIRE BLVD, 3RD FL, LOS ANGELES, CA 90057 | 19 | 170,494
COUNTY OF MONTEREY HA | 123 RICO ST, SALINAS, CA 93907 | 7 | 55,678
SAN JOSE HA | 505 WEST JULIAN ST, SAN JOSE, CA 95110 | 1 | 12,879
COUNTY OF SANTA CLARA HA | 505 WEST JULIAN ST, SAN JOSE, CA 95110 | 4 | 51,516
ALAMEDA COUNTY HA | 22941 ATHERTON ST, HAYWARD, CA 94541 | 2 | 13,438
SANTA CRUZ COUNTY HA | 2931 MISSION ST, SANTA CRUZ, CA 95060 | 22 | 234,093
COUNTY OF SAN DIEGO | 3989 RUFFIN RD, SAN DIEGO, CA 92123 | 2 | 9,546
CITY OF HARTFORD | 550 MAIN ST, HARTFORD, CT 06103 | 5 | 39,735
CONN DEPT OF SOCIAL SERVICES | 25 SIGOURNEY ST, 9TH FL, HARTFORD, CT 06105 | 6 | 52,741
DISTRICT OF COLUMBIA HA | 1133 NORTH CAPITOL ST, NE, WASHINGTON, DC 20002 | 119 | 1,435,940
MIAMI DADE HA | 1401 NW 7TH ST, MIAMI, FL 33125 | 197 | 1,621,024
HA ATLANTA GA | 230 JOHN WESLEY DOBBS AVE, NE, ATLANTA, GA 30303 | 27 | 258,925
CITY OF DES MOINES MUNIC HA | 100 EAST EUCLID, STE 101 DES MOINES, IA 50313 | 6 | 27,796
NEW ORLEANS HA | 4100 TOURO ST, NEW ORLEANS, LA 70122 | 21 | 90,096
SHREVEPORT HAORITY | 2500 LINE AVE, SHREVEPORT, LA 71104 | 20 | 88,353
COMM DEV PROG COMM OF MA, EOCD | 100 CAMBRIDGE ST, BOSTON, MA 02114 | 39 | 410,492
MAINE STATE HA | 353 WATER ST, AUGUSTA, ME 04330 | 16 | 91,010
MINNEAPOLIS PHA | 1001 WASHINGTON AVE NORTH, MINNEAPOLIS, MN 55401 | 3 | 2,395
ST. LOUIS HA | 4100 LINDELL BLVD, ST. LOUIS, MO 63108 | 3 | 19,520
HA WINSTON-SALEM | 500 WEST FOURTH ST, STE 300, WINSTON-SALEM, NC 27101 | 36 | 204,401
ALBUQUERQUE HA | 1840 UNIVERSITY BLVD, SE, ALBUQUERQUE, NM 87106 | 1 | 5,494
HA OF MECHANICVILLE | HARRIS AVE, MECHANICVILLE, NY 12118 | 9 | 46,746
HA OF BEACON | 1 FORRESTAL HEIGHTS, BEACON, NY 12508 | 1 | 2,221
Section 8 Rental Assistance Programs Announcement of Awards for Fiscal Year 2008
TOWN OF AMHERST | 1195 MAIN ST, BUFFALO, NY 14209 | 6 | 25,934
CITY OF BUFFALO | 470 FRANKLIN ST, BUFFALO, NY 14202 | 59 | 261,743
CINCINNATI METRO HA | 16 WEST CENTRAL PKWY, CINCINNATI, OH 45210 | 15 | 92,183
HA OF JACKSON COUNTY | 2231 TABLE ROCK RD, MEDFORD, OR 97501 | 1 | 4,966
JOSEPHINE HSG COMMUNITY | P.O. BOX 1630, GRANTS PASS, OR 97528 | 5 | 23,079
HA OF THE CITY OF PITTSBURGH | 200 ROSS ST, PITTSBURGH, PA 15219 | 1 | 6,497
DAUPHIN COUNTY HA | 501 MOHN ST, STEELTON, PA 17113 | 9 | 55,539
MUNICIPALITY OF VEGA BAJA | P.O. BOX 4555, VEGA BAJA, PR 00694 | 22 | 113,903
PUERTO RICO HSG FIN CORP | CALL BOX 71361-GPO, SAN JUAN, PR 00936 | 124 | 629,047
HA OF CHARLESTON | 20 FRANKLIN ST, CHARLESTON, SC 29401 | 3 | 2,331
HA COLUMBIA | 1917 HARDEN ST, COLUMBIA, SC 29204 | 1 | 995
HA SOUTH CAROLINA REG NO 1 | 404 CHURCH ST, LAURENS, SC 29360 | 72 | 300,967
S C STATE HSG FIN & DEV | 300-C OUTLET POINTE BLVD, COLUMBIA, SC 29210 | 23 | 101,902
HA MORRISTOWN | P.O. BOX 49, MORRISTOWN, TN 37815 | 5 | 16,012
HOUSTON HA | 2640 FOUNTAIN VIEW, HOUSTON, TX 77057 | 28 | 206,875
RICHMOND REDEV & HA | 901 CHAMBERLAYNE PKWY, RICHMOND, VA 23456 | 44 | 315,511
ROANOKE REDEV & HA | 2624 SALEM TRNPK, NW, ROANOKE, VA 24017 | 8 | 38,676
VERMONT STATE HA | ONE PROSPECT ST, MONTPELIER, VT 05602 | 28 | 153,294
CHARLESTON/KANAWHA HA | P.O. BOX 86, CHARLESTON, WV 25321 | 2 | 9,757
Total for Mod Rehab Replacements | 1,110 | 8,010,738
PH Relocations/Replacements
H/A CITY OF MONTGOMERY | 1020 BELL ST, MONTGOMERY, AL 36104 | 148 | * 1
HA HUNTSVILLE | P.O. BOX 486, HUNTSVILLE, AL 35804 | 54 | 235,924
FORT SMITH HA | 2100 NORTH 31ST ST, FORT SMITH, AR 72904 | 155 | 547,063
CITY OF LOS ANGELES HA | 2600 WILSHIRE BLVD, 3RD FL, LOS ANGELES, CA 90057 | 651 | * 1
COUNTY OF SANTA CLARA HA | 505 WEST JULIAN ST, SAN JOSE, CA 95110 | 546 | 7,031,737
HA OF THE CITY AND CO OF DENVER | 777 GRANT ST, DENVER, CO 80203 | 112 | 987,410
HA OF THE CITY OF LAKEWOOD | 445 S. ALLISON PKWY, LAKEWOOD, CO 80226 | 159 | 1,175,748
GRAND JUNCTION HA | 1011 NORTH TENTH ST, GRAND JUNCTION, CO 81501 | 30 | 142,092
Section 8 Rental Assistance Programs Announcement of Awards for Fiscal Year 2008
ADAMS COUNTY HA | 7190 COLORADO BLVD, 6TH FL, COMMERCE CITY, CO 80022 | 20 | * 11,150
NEWARK HA | 313 E. MAIN ST, NEWARK, DE 19711 | 9 | * 11,137
HA WEST PALM BEACH GEN'L FUND | 1715 DIVISION AVE, WEST PALM BEACH, FL 33407 | 47 | * 407,716
HA FORT LAUDERDALE CITY | 437 SW 4TH AVE, FORT LAUDERDALE, FL 33315 | 72 | * 1
FORT WALTON BEACH H/A | 27 ROBINWOOD DR, SW, FORT WALTON BEACH, FL 32548 | 50 | 229,956
SARASOTA OFFICE OF HSG AND | 111 S ORANGE AVE, SARASOTA, FL 34236 | 46 | 330,825
HA OF WINTER HAVEN | 2670 AVE C SW, WINTER HAVEN, FL 33880 | 31 | 160,630
HA ATLANTA GA | 230 JOHN WESLEY DOBBS AVE, NE, ATLANTA, GA 30303 | 681 | 6,793,840
CITY OF CARROLLTON HA | P.O. BOX 627, CARROLLTON, GA 30112 | 42 | 298,958
NORTHWEST GEORGIA HA | 800 NORTH FIFTH AVE, ROME, GA 30162 | 49 | 215,838
MENARD COUNTY HA | P.O. BOX 168, PETERSBURG, IL 62675 | 5 | 23,009
GARY HA | 578 BROADWAY, GARY, IN 46402 | 225 | 1,512,432
NEW ORLEANS HA | 4100 TOURO ST, NEW ORLEANS, LA 70122 | 1,542 | 20,365,040
DETROIT HSG COMMISSION | 1301 EAST JEFFERSON AVE, DETROIT, MI 48207 | 258 | * 71,211
ST PAUL PHA | 555 NORTH WABASHA, STE 400, ST. PAUL, MN 55102 | 9 | 70,133
SCOTT COUNTY CDA | 323 SOUTH NAUMKEAG ST, SHAKOPEE, MN 55379 | 14 | 103,033
THE BAY WAVELAND HA | P.O. BOX 2219, BAY ST. LOUIS, MS 39521 | 160 | 847,776
OMAHA HA | 540 SOUTH 27TH ST, OMAHA, NE 68105 | 161 | * 417,161
KEENE HA | 831 COURT ST, KEENE, NH 03431 | 228 | 1,900,125
JERSEY CITY HA | 400 U.S. HIGHWAY #1, JERSEY CITY, NJ 07306 | 157 | * 3
FRANKLIN TOWNSHIP HSG | ONE PARKSIDE ST, SOMERSET, NJ 08873 | 36 | 328,311
SANTA FE CIVIC HA | 664 ALTA VISTA, SANTA FE, NM 87505 | 104 | 750,871
COLUMBUS METRO HA | 880 EAST 11TH AVE, COLUMBUS, OH 43211 | 121 | * 59,422
DAYTON METRO HA | 400 WAYNE AVE, DAYTON, OH 45401 | 46 | 225,421
HA OF JACKSON COUNTY | 2231 TABLE ROCK RD, MEDFORD, OR 97501 | 105 | * 109,729
HA OF PORTLAND | 135 SW ASH ST, PORTLAND, OR 97204 | 158 | 1,058,821
HA OF YAMHILL | 135 NE DUNN PLACE, MCMINNVILLE, OR 97128 | 40 | 228,317
HA OF WASHINGTON | 111 NE LINCOLN ST, STE 200-L, MS63, HILLSBORO, OR 97124 | 22 | 149,706
CENTRAL OREGON REG HA | 405 SW 6TH ST, REDMOND, OR 97756 | 48 | * 267,528
HA OF MYRTLE BEACH | P.O. BOX 2468, MYRTLE BEACH, SC 29578 | 14 | 73,849
Section 8 Rental Assistance Programs Announcement of Awards for Fiscal Year 2008
METROPOLITAN DEV & HA | 701 SOUTH SIXTH ST, NASHVILLE, TN 37202 | 12 | 66,059
SAN ANTONIO HA | 818 S. FLORES ST, SAN ANTONIO, TX 78295 | 154 | * 865,961
MC ALLEN HA | 2301 JASMINE AVE, MC ALLEN, TX 78501 | 74 | 292,170
MERCEDES HA | 1098 W. EXPRESSWAY 83, MERCEDES, TX 78570 | 64 | * 224,577
HA OF PORT ARTHUR | P.O. BOX 2295, PORT ARTHUR, TX 77643 | 152 | 841,958
WESLACO HA | P.O. BOX 95, WESLACO, TX 78596 | 89 | 354,661
ALAMO HA | 309 NORTH 9TH ST, ALAMO, TX 78516 | 12 | 47,992
HARLINGEN HA | P.O. BOX 1669, HARLINGEN, TX 78551 | 35 | 183,642
PHARR HA | 211 W AUDREY, PHARR, TX 78577 | 100 | 375,792
STARR COUNTY HA | 1601 W. CIRCLE DR, RIO GRANDE CITY, TX 78582 | 34 | 102,861
HA OF UTAH COUNTY | 240 EAST CENTER, PROVO, UT 84606 | 107 | 578,836
HARRISONBURG REDEV & HA | 286 KELLEY ST, HARRISONBURG, VA 22801 | 100 | 474,612
HA OF THE CITY OF BREMERTON | 110 RUSSELL RD P.O. BOX 4460, BREMERTON, WA 98312 | 214 | 1,273,882
Total for PH Relocations/Replacements | 7,502 | 52,824,929
SRO Relocations/Replacements
PHOENIX NEIGHBORHOOD IMPROV | 251 W. WASHINGTON ST, PHOENIX, AZ 85034 | 20 | 150,614
BOSTON HA | 52 CHAUNCY ST, BOSTON, MA 02111 | 6 | 75,526
ST. LOUIS HA | 4100 LINDELL BLVD, ST. LOUIS, MO 63108 | 48 | 312,382
CUYAHOGA MHA | 1441 WEST 25TH ST, CLEVELAND, OH 44113 | 16 | 103,730
SPOKANE HA | WEST 55 MISSION ST, STE 104, SPOKANE, WA 99201 | 37 | 175,100
Total for SRO Relocations/Replacements | 127 | 817,352
Witness Relocation
PLYMOUTH HA | P.O. BOX 3537, PLYMOUTH, MA 02361 | 1 | 14,652
MONTGOMERY CO HA | 10400 DETRICK AVE, KENSINGTON, MD 20895 | 6 | 120,256
MUNICIPALITY OF FAJARDO | P.O. BOX 1049, FAJARDO, PR 00738 | 1 | 9,708
Total for Witness Relocation | 8 | 144,616
Total for Public Housing Tenant Protection | 8,747 | 61,797,635
Housing Tenant Protection Preservation/Prepayment
H/A CITY OF MONTGOMERY | 1020 BELL ST, MONTGOMERY, AL 361046 | 88 | 568,145
CITY OF LOS ANGELES HA | 2600 WILSHIRE BLVD, 3RD FL, LOS ANGELES, CA 90057 | 16 | 160,989
COUNTY OF SAN DIEGO | 3989 RUFFIN RD, SAN DIEGO, CA 92123 | 226 | 2,198,745
HA OF THE CITY AND | 777 GRANT ST, DENVER, CO 80203 | 2 | 20,097
COLORADO SPRINGS HA | P.O. BOX 1575, MC 1490, COLORADO SPRINGS, CO 80901 | 29 | 212,846
CITY OF HARTFORD | 550 MAIN ST, HARTFORD, CT 06103 | 11 | 89,617
CONN DEPT OF SOCIAL SERVICES | 25 SIGOURNEY ST, 9TH FL, HARTFORD, CT 06105 | 40 | 371,062
GEORGIA DEPT OF COMM AFFAIRS | 60 EXECUTIVE PARK SO, NE, STE 250, ATLANTA, GA 30329 | 18 | 105,260
CITY OF DES MOINES MUN. HA | 100 EAST EUCLID, STE 101, DES MOINES, IA 50313 | 59 | 318,491
GEORGETOWN HA | 139 SCROGGIN PARK, GEORGETOWN, KY 40324 | 43 | 227,523
PIKE COUNTY HA | 510 MAIN ST, PIKEVILLE, KY 41501 | 30 | 112,636
BOWLING GREEN HA | 1017 COLLEGE ST., BOWLING GREEN, KY | 97 | 408,665
KENTUCKY HSG CORP | 1231 LOUISVILLE RD, FRANKFORT, KY 40601 | 28 | 138,162
EAST BATON ROUGE PHA | 4731 NORTH BLVD, BATON ROUGE, LA 70806 | 91 | 589,065
BOSTON HA | 52 CHAUNCY ST, BOSTON, MA 02111 | 168 | 2,168,086
HA OF BALTIMORE CITY | 417 EAST FAYETTE ST, BALTIMORE, MD 21201 | 19 | 149,238
LIVONIA HSG COMMISSION | 19300 PURLINGBROOK RD, LIVONIA, MI 48152 | 60 | 417,554
MICHIGAN STATE HSG DEV AUTH | P.O. BOX 30044, LANSING, MI 48909 | 62 | 366,388
METROPOLITAN COUNCIL HRA | 390 ROBERT ST. NORTH, ST. PAUL, MN 551015 | 47 | 368,538
SPRINGFIELD HA | 421 WEST MADISON, SPRINGFIELD, MO 65806 | 11 | 37,449
HA CITY OF GREENVILLE | 1103 BROAD ST, GREENVILLE, NC 27834 | 46 | 203,719
NASHUA HA | 40 EAST PEARL ST., 1ST FL, NASHUA, NH 03060 | 95 | 878,503
NEW JERSEY DCA | 101 SOUTH BROAD ST, TRENTON, NJ 08625 | 33 | 311,334
THE MUNICIPAL HA | 1511 CENTRAL PARK AVE, YONKERS, NY 10710 | 621 | 6,115,906
NEW YORK CITY HA | 90 CHURCH ST, 9TH FL, NEW YORK, NY | 68 | 642,230
HA OF ROCHESTER | 675 WEST MAIN ST, ROCHESTER, NY 14611 | 252 | 1,316,519
HA OF BEACON | 1 FORRESTAL HEIGHTS, BEACON, NY 12508 | 177 | 1,600,512
HA OF ITHACA | 800 S PLAIN ST, ITHACA, NY 14850 | 234 | 1,335,644
TOWN OF AMHERST | 1195 MAIN ST, BUFFALO, NY 14209 | 129 | 601,007
THE CITY OF NEW YORK DHPD | 100 GOLD ST, RM 501, NEW YORK, NY | 1,313 | 12,818,095
CITY OF POUGHKEEPSIE MUN BLDG | MEMORIAL SQUARE, POUGHKEEPSIE, NY 12602 | 99 | 728,311
NYS HSG TRUST FUND CORP | 38-40 STATE ST, ALBANY, NY 12207 | 222 | 2,406,913
CUYAHOGA MHA | 1441 WEST 25TH ST, CLEVELAND, OH 44113 | 48 | 320,790
LUCAS MHA | 435 NEBRASKA AVE, TOLEDO, OH 43602 | 17 | 95,625
TRUMBULL MHA | 4076 YOUNGSTOWN RD SE, WARREN, OH 44484 | 2 | 9,531
LAKE MHA | 189 FIRST ST, PAINESVILLE, OH 44077 | 66 | 435,890
MIAMI METRO HA | 1695 TROY-SIDNEY RD, TROY, OH 45373 | 10 | 47,232
NEWPORT HA | 1 YORK ST, NEWPORT, RI 02840 | 129 | 1,321,585
MEMPHIS HA | 700 ADAMS AVE, MEMPHIS, TN 38105 | 113 | 732,214
HA OF JOHNSON CITY | P.O. BOX 59, JOHNSON CITY, TN 37605 | 9 | 38,628
SAN ANTONIO HA | 818 S. FLORES ST, SAN ANTONIO, TX 78295 | 160 | 1,000,755
CENTRAL TEXAS COG | 2180 N. MAIN, BELTON, TX 76513 | 10 | 55,627
DANVILLE REDEV AND HA | 651 CARDINAL PL, DANVILLE, VA 24541 | 69 | 368,764
ROANOKE REDEV AND HA | 2624 SALEM TRNPK, NW, ROANOKE, VA 24017 | 144 | 724,977
HA OF THE CITY OF VANCOUVER | 2500 MAIN ST, STE 200, VANCOUVER, WA 98660 | 5 | 35,877
HA OF THE CITY OF YAKIMA | 810 N 6TH AVE, YAKIMA, WA 98902 | 2 | 9,711
MARTINSBURG HA | 703 PORTER AVE, MARTINSBURG, WV 25401 | 19 | 86,329
HA OF THE CITY OF CHEYENNE | 3304 SHERIDAN AVE, CHEYENNE, WY 82009 | 7 | 36,159
Total for Preservation/Prepayment | 5,244 | 43,306,943
Property Disposition Relocation
NEW YORK CITY HA | 90 CHURCH ST, 9TH FL, NEW YORK, NY | 433 | 4,089,494
Total for Property Disposition Relocation | 433 | 4,089,494
Rent Supplements
CITY OF DES MOINES MUNIC HA | 100 EAST EUCLID, STE 101, DES MOINES, IA 50313 | 21 | 114,045
MONTGOMERY CO HA | 10400 DETRICK AVE, KENSINGTON, MD 20895 | 4 | 49,875
ST. CLOUD HRA | 1225 WEST ST GERMAIN, ST. CLOUD, MN 56301 | 8 | 40,856
RALEIGH HA | P.O. BOX 28007, RALEIGH, NC 27611 | 29 | 234,617
SEATTLE HA | 120 SIXTH AVE. NORTH, SEATTLE, WA 98109 | 7 | 77,543
HA OF THE CITY OF PASCO & | 2505 W. LEWIS ST, PASCO, WA 99301 | 29 | 133,895
HA OF SNOHOMISH | 12625 4TH AVE WEST, STE 200, EVERETT, WA 98204 | 6 | 53,355
HA OF THE CITY OF | 810 N 6TH AVE, YAKIMA, WA 98902 | 13 | 55,481
Total for Rent Supplements | 117 | 759,667
Terminations/Opt-outs
HA ANNISTON | P.O. BOX 2225, ANNISTON, AL 36202 | 12 | 46,844
HA AUBURN | 931 BOOKER ST, AUBURN, AL 36830 | 22 | 110,467
CITY OF TUCSON | 310 NO COMMERCE PARK LOOP, TUCSON, AZ | 93 | 539,262
CITY OF SCOTTSDALE | 7515 E FIRST ST, SCOTTSDALE, AZ 85251 | 28 | 207,533
SAN FRANCISCO HA | 440 TURK ST, SAN FRANCISCO, CA 94102 | 190 | 3,000,724
COUNTY OF LOS ANGELES HA | 2 CORAL CIRCLE, MONTEREY PARK, CA 93907 | 129 | 787,757
COUNTY OF SAN BERNARDINO HA | 715 E. BRIER DR, SAN BERNARDINO, CA 92408 | 35 | 292,465
COUNTY OF SANTA CLARA HA | 505 WEST JULIAN ST, SAN JOSE, CA 95110 | 10 | 139,832
ALAMEDA COUNTY HA | 22941 ATHERTON ST, HAYWARD, CA 94541 | 32 | 428,447
ADAMS COUNTY HA | 7190 COLORADO BLVD, 6TH FL, COMMERCE CITY, CO 80022 | 18 | 136,196
DISTRICT OF COLUMBIA HA | 1133 NORTH CAPITOL ST, NE, WASHINGTON, DC 20002 | 318 | 3,871,358
MIAMI DADE HA | 1401 NW 7TH ST, MIAMI, FL 33125 | 22 | 191,481
HA WEST PALM BEACH GEN FUND | 1715 DIVISION AVE, WEST PALM BEACH, FL 33407 | 94 | 968,463
HIALEAH H/A | 75 EAST 6TH ST, HIALEAH, FL 33010 | 54 | 443,519
CITY AND COUNTY OF HONOLULU | 715 SOUTH KING ST, STE 311, HONOLULU, HI 96813 | 0 | 12,200
HA TALLAHASSEE | 2940 GRADY RD, TALLAHASSEE, FL 32312 | 144 | 1,025,755
SIOUX CITY HSG SERVICES DIV | CITY HALL P.O. BOX 447, SIOUX CITY, IA 51102 | 6 | 25,388
CITY OF DAVENPORT, IOWA | 501 WEST 3RD ST, DAVENPORT, IA 52801 | 23 | 136,410
CITY OF AMES DEPT. OF PLAN & HS | 515 CLARK AVE, AMES, IA 50010 | 7 | 36,197
NORTH IOWA REG HA | 202 1ST ST, SE, STE 203, MASON CITY, IA 50401 | 8 | 23,583
IDAHO HSG AND FIN ASSOC | 565 W MYRTLE ST, BOISE, ID 83707 | 9 | 40,829
CHICAGO HA | 60 EAST VAN BUREN ST, 11TH FL, CHICAGO, IL 60605 | 246 | 2,462,975
INDIANAPOLIS HA | 1919 N. MERIDIAN ST, INDIANAPOLIS, IN 46202 | 98 | 645,632
HA FOR THE CITY OF LAFAYETTE | 100 EXECUTIVE DR, STE J, LAFAYETTE, IN 47903 | 106 | 484,526
SOMERSET HA | P.O. BOX 449, SOMERSET, KY 42501 | 16 | 53,442
KENTUCKY HSG CORP | 1231 LOUISVILLE RD, FRANKFORT, KY 40601 | 10 | 44,044
EAST BATON ROUGE PHA | 4731 NORTH BLVD, BATON ROUGE, LA 70806 | 48 | 310,716
CROWLEY HA | P.O. BOX 1347, CROWLEY, LA 70527 | 35 | 135,192
NEWELLTON HA | P.O. BOX 1021, NEWELLTON, LA 71357 | 120 | 391,085
BOSTON HA | 52 CHAUNCY ST, BOSTON, MA 02111 | 123 | 1,723,384
DEDHAM HAORITY | 163 DEDHAM BLVD, DEDHAM, MA 02026 | 1 | 10,428
HA OF BALTIMORE CITY | 417 EAST FAYETTE ST, BALTIMORE, MD 21201 | 150 | 1,092,414
HA OF PRINCE GEORGE'S COUNTY | 9400 PEPPERCORN PL, STE 200, LARGO, MD 20774 | 180 | 2,193,727
BALTIMORE CO. HSG OFFICE | 6401 YORK RD, 1 ST FL, BALTIMORE, MD 21210 | 9 | 66,792
PORT HURON HSG COMMISSION | 905 SEVENTH ST, PORT HURON, MI 48060 | 24 | 151,585
MINNEAPOLIS PHA | 1001 WASHINGTON AVE NO, MINNEAPOLIS, MN 55401 | 16 | 140,666
METROPOLITAN COUNCIL HRA | 390 ROBERT ST NORTH, ST. PAUL, MN 55101 | 19 | 161,143
SOUTHEAST MN MULTI-COUNTY HRA | 134 EAST SECOND ST, WABASHA, MN 55981 | 0 | 14,200
ST. LOUIS HA | 4100 LINDELL BLVD, ST. LOUIS, MO 63108 | 50 | 348,274
LEES SUMMIT HA | 111 SOUTH GRAND, LEES SUMMIT, MO 64063 | 79 | 504,389
SPRINGFIELD HA | 421 WEST MADISON, SPRINGFIELD, MO 65806 | 3 | 11,688
MISS REGIONAL H/A VIII | P.O. BOX 2347, GULFPORT, MS 39505 | 58 | 367,514
HA LONG BEACH | P.O. BOX 418, LONG BEACH, MS 39560 | 14 | 73,284
HA OF BILLINGS | 2415 1ST AVE NORTH, BILLINGS, MT 59101 | 20 | 100,847
GREAT FALLS HA | 1500 CHOWEN SPRINGS LOOP, GREAT FALLS, MT 59405 | 12 | 58,970
HA OF THE CITY OF CHARLOTTE | 1301 SOUTH BLVD, CHARLOTTE, NC 28236 | 10 | 86,475
HA WINSTON-SALEM | 500 WEST FOURTH ST, STE 300, WINSTON-SALEM, NC 27101 | 16 | 94,045
HA COUNTY OF WAKE | 100 SHANNON ST, ZEBULON, NC 27597 | 12 | 108,449
MORTON COUNTY HA | 1500 3RD AVE NW, MANDAN, ND 58554 | 13 | 42,059
WALSH COUNTY HA | 600 E 9TH ST, GRAFTON, ND 58237 | 1 | 3,680
UNION CITY HA | 3911 KENNEDY BLVD, UNION CITY, NJ 07087 | 47 | 353,598
COUNTY OF CLARK HA | 5390 EAST FLAMINGO RD, LAS VEGAS, NV 89122 | 0 | 646,722
NYS HSG TRUST FUND CORP | 38-40 STATE ST, ALBANY, NY 12207 | 14 | 148,561
COLUMBUS METRO HA | 880 EAST 11TH AVE, COLUMBUS, OH 43211 | 50 | 313,858
CINCINNATI METRO HA | 16 WEST CENTRAL PKWY, CINCINNATI, OH 45210 | 14 | 83,670
LICKING METRO HA | 144 WEST MAIN ST, NEWARK, OH 43055 | 24 | 128,096
OKLAHOMA HFA | P.O. BOX 26720, OKLAHOMA CITY, OK 73126 | 158 | 842,554
HA OF THE COUNTY OF | P.O. BOX 1510, OREGON CITY, OR 97045 | 0 | 3,600
HA OF JACKSON COUNTY | 2231 TABLE ROCK RD, MEDFORD, OR 97501 | 49 | 263,595
LINN-BENTON HA | 1250 SE QUEEN AVE, ALBANY, OR 97322 | 8 | 41,085
CENTRAL OREGON REG HA | 405 SW 6TH ST, REDMOND, OR 97756 | 6 | 36,870
ALLEGHENY COUNTY HA | 625 STANWIX ST, 12TH FL, PITTSBURGH, PA 15222 | 12 | 67,423
EASTON HA | 157 SOUTH FOURTH ST, EASTON, PA 18044 | 4 | 27,938
ARMSTRONG COUNTY HA | 350 S. JEFFERSON ST, KITTANNING, PA 16201 | 0 | 6,400
MUNICIPALITY OF CAGUAS | P.O. BOX 907, CAGUAS, PR 00726 | 34 | 217,879
H/A OF CHARLESTON | 20 FRANKLIN ST, CHARLESTON, SC 29401 | 2 | 11,750
BROOKINGS HSG & REDEV AUTH | 1310 MAIN AVE. SOUTH, BROOKINGS, SD 57006 | 35 | 116,599
MEMPHIS HA | 700 ADAMS AVE, MEMPHIS, TN 38105 | 138 | 850,450
TENNESSEE HSG DEV AGENCY | 404 J. ROBERTSON PKWY, STE 1114, NASHVILLE, TN 37243 | 86 | 470,568
SAN ANTONIO HA | 818 S. FLORES ST, SAN ANTONIO, TX 78295 | 61 | 372,564
HA OF WACO | 4400 COBBS DRIVE, WACO, TX 76703 | 40 | 213,363
HA OF LUBBOCK | 1708 AVE. G, LUBBOCK, TX 79408 | 107 | 591,098
TAYLOR HA | 213 DEBUS DR, TAYLOR, TX 76574 | 64 | 395,986
TYLER HA | 213 N. BONNER, TYLER, TX 75710 | 9 | 58,349
LONGVIEW HSG. & COMM. DEV | P.O. BOX 1952, LONGVIEW, TX 75606 | 18 | 91,963
FORT STOCKTON HA | 121 W. SECOND ST, FORT STOCKTON, TX 79735 | 58 | 232,002
DALLAS COUNTY HSG ASSISTANCE | 2377 N. STEMMONS FRWY, STE 200-LB 16, DALLAS, TX 75207 | 36 | 242,779
NEWPORT NEWS REDEV & HA | P.O. BOX 797, NEWPORT NEWS, VA 23607 | 35 | 235,484
WAYNESBORO REDEV & H/A | 1700 NEW HOPE RD, WAYNESBORO, VA 22980 | 50 | 206,050
VIRGINIA HSG DEV AUTH | 601 SOUTH BELVIDERE ST, RICHMOND, VA 23220 | 33 | 269,299
HA CITY OF EVERETT | 3107 COLBY AVE, EVERETT, WA 98206 | 10 | 85,167
HA CITY OF LONGVIEW | 1207 COMMERCE AVE, LONGVIEW, WA 98632 | 36 | 200,853
HA OF THE CITY OF MILWAUKEE | 809 NORTH BRDWY, MILWAUKEE, WI 53201 | 41 | 250,023
BELOIT CDA | 220 PORTLAND AVE, BELOIT, WI 53511 | 0 | 300
WEST BEND HA | 475 MEADOWBROOK DR, WEST BEND, WI 53095 | 85 | 394,267
WISCONSIN HSG & ECON DEV | P.O. BOX 1728, MADISON, WI 53701 | 16 | 68,687
THE CITY OF FAIRMONT HA | 103 12TH ST, FAIRMONT, WV 26555 | 7 | 32,104
HA OF THE CITY OF CHEYENNE | 3304 SHERIDAN AVE, CHEYENNE, WY 82009 | 39 | 201,458
Total for Terminations/Opt-outs | 4,169 | 33,119,377
Total for Housing Tenant Protection | 9,969 | 81,235,046
HOPE VI Vouchers—HOPE VI Vouchers (H6)
HA OF TEXARKANA | 1611 N. ROBISON RD, TEXARKANA, TX 75501 | 164 | 650,581
KING COUNTY HA | 600 ANDOVER PARK WEST, SEATTLE, WA 98188 | 78 | 844,204
HA OF THE CITY OF BREMERTON | 110 RUSSELL RD, BREMERTON, WA 98312 | 234 | 1,437,426
Total for HOPE VI Vouchers (H6) | 476 | 2,932,211
TP HOPE VI Vouchers
PHOENIX NEIGHBORHOOD IMPROV | 251 W. WASHINGTON ST, PHOENIX, AZ 85034 | 40 | 301,229
HA ATLANTA GA | 230 JOHN WESLEY DOBBS AVE NE, ATLANTA, GA 30303 | 13 | 124,992
BOSTON HA | 52 CHAUNCY ST., BOSTON, MA 02111 | 163 | * 2
JERSEY CITY HA | 400 U.S. HIGHWAY #1, JERSEY CITY, NJ 07306 | 30 | * 23,803
EASTON HA | 157 SOUTH FOURTH ST, EASTON, PA 18044 | 83 | 378,440
NEWPORT HA | 1 YORK ST, NEWPORT, RI 02840 | 90 | * 1
Total for TP HOPE VI Vouchers | 419 | 828,467
Total for HOPE VI Vouchers | 895 | 3,760,678
Grand Total | 19,605 | 146,833,794

[FR Doc. E9-10420 Filed 5-6-09; 8:45 am]

BILLING CODE 4210-67-P